NUCLEAR REGULATORY COMMISSION

[Docket No. 50-382; NRC-2016-0078]

Entergy Operations, Inc.; Waterford Steam Electric Station, Unit 3

AGENCY: Nuclear Regulatory Commission.

ACTION: License renewal and record of decision; issuance.

SUMMARY: The U.S. Nuclear Regulatory Commission (NRC) has issued Renewed Facility Operating License No. NPF-38 to Entergy Operations, Inc., (EOI), the operator of the Waterford Steam Electric Station, Unit 3 (WF3), and Entergy Louisiana, LLC, the owner of WF3 (together Entergy or the licensees). Renewed Facility Operating License No. NPF-38 authorizes EOI to operate WF3 at reactor core power levels not in excess of 3,716 megawatts thermal, in accordance with the provisions of the WF3 renewed license and technical specifications. In addition, the NRC has prepared a record of decision (ROD) that supports the NRC's decision to renew Facility Operating License No. NPF-38.

DATES: The NRC issued the Renewed Facility Operating License No. NPF-38 on December 27, 2018.

ADDRESSES: Please refer to Docket ID NRC-2016-0078 when contacting the NRC about the availability of information regarding this document. You may obtain publicly available information related to this document using any of the following methods:

• Federal Rulemaking Website: Go to http://www.regulations.gov and search for Docket ID NRC-2016-0078. Address questions about Docket IDs in Regulations.gov to Krupskaya Castellon; telephone: 301-287-9221; email: Krupskaya.Castellon@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

FOR FURTHER INFORMATION CONTACT: Phyllis M. Clark, Office of Nuclear Reactor Regulation, U.S. Nuclear Regulatory Commission, Washington DC 20555-0001; telephone: 301-415-6447, email: Phyllis.Clark@nrc.gov.

SUPPLEMENTARY INFORMATION:

I. Introduction

Notice is hereby given that the NRC has issued Renewed Facility Operating License No. NPF-38 to Entergy Operations, Inc. (EOI), the operator of Waterford Steam Electric Station, Unit 3 (WF3), and Entergy Louisiana, LLC (together Entergy or the licensees). Renewed Facility Operating License No. NPF-38 authorizes EOI to operate WF3 at reactor core power levels not in excess of 3,716 megawatts thermal, in accordance with the provisions of the WF3 renewed license and technical specifications. The NRC's record of decision that supports the decision to issue Renewed Facility Operating License No. NPF-38 is available in ADAMS under Accession No. ML18275A234. The NRC documented its environmental review for the license renewal in the record of decision and in the final supplemental environmental impact statement (FSEIS), which was published as Supplement 59, “Regarding Waterford Steam Electric Station, Unit 3, Final Report,” November 20, 2018 (ADAMS Accession No. ML18323A103), to NUREG-1437, “Generic Environmental Impact Statement for License Renewal of Nuclear Plants.” As part of its environmental review, the NRC considered a range of reasonable alternatives to WF3 license renewal that included new nuclear power generation, supercritical pulverized coal (SCPC), natural gas combined-cycle (NGCC), and a combination alternative (NGCC, biomass, and demand-side management (DSM)). The NRC also considered the no-action alternative, or simply not issuing the renewed license. The FSEIS documents the environmental review, including the determination that the adverse environmental impacts of license renewal for WF3 are not so great that preserving the option of license renewal for energy planning decisionmakers would be unreasonable.

WF3 is a pressurized-water reactor located in Killona, St. Charles Parish, Louisiana (25 miles west of New Orleans, LA). The application for the renewed license, “License Renewal Application, Waterford Steam Electric Station, Unit 3 Facility Operating License MPF-38, March 2016,” dated March 23, 2016 (ADAMS Package Accession No. ML16088A324), as supplemented by letters dated through June 26, 2018, complies with the standards and requirements of the Atomic Energy Act of 1954, as amended (the Act), and the NRC's regulations. As required by the Act and the NRC's regulations in chapter 1 of title 10 of the Code of Federal Regulations (10 CFR), the NRC has made appropriate findings, which it has set forth in the renewed license. The NRC published a public notice of the proposed issuance of the renewed license, which included an opportunity for a hearing, in the Federal Register on May 31, 2016 (81 FR 34379). No adjudicatory matters are pending before the Commission or the Atomic Safety and Licensing Board Panel regarding the WF3 license renewal application.

For further details with respect to this action, see: (1) Entergy's license renewal application for WF3 dated March 23, 2016 (ADAMS Package Accession No. ML16088A324), as supplemented by letters through June 26, 2018, (2) the NRC's safety evaluation report published on August 17, 2018 (ADAMS Accession No. ML18228A668), (3) the NRC's final supplemental environmental impact statement (NUREG-1437, Supplement 59) for WF3 published on November 20, 2018 (ADAMS Accession No. ML18323A103), and (4) the NRC's record of decision (ADAMS Accession No. ML18275A234).

II. Conclusion

As discussed in Chapter 5 of the final supplemental environmental impact statement for the WF3 license renewal (Supplement 59 to NUREG-1437), the NRC has determined that the adverse environmental impacts of license renewal for WF3 are not so great that preserving the option of license renewal for energy-planning decisionmakers would be unreasonable. This recommendation is based on: (1) The analysis and findings in the Generic Environmental Impact Statement for License Renewal of Nuclear Plants, (2) information provided in the environmental report submitted by Entergy, (3) consultation with Federal, State, local, and Tribal agencies, and (4) the NRC staff's independent environmental review.

Dated at Rockville, Maryland, this 28th day of January 2019.
For the Nuclear Regulatory Commission.
Joseph E. Donoghue,
Deputy Director, Division of Materials and License Renewal, Office of Nuclear Reactor Regulation.

[FR Doc. 2019-00585 Filed 1-31-19; 8:45 am]

BILLING CODE 7590-01-P